DEPARTMENT OF COMMERCE

International Trade Administration

[A-122-047]

Elemental Sulphur From Canada: Extension of Time Limit for Final Results of the Antidumping Duty Administrative Review

AGENCY: Import Administration, International Trade Administration, Department of Commerce.

ACTION: Notice of extension of time limit for final results of antidumping duty administrative review.

SUMMARY: The Department of Commerce (“the Department”) is extending the time limit for the final results of the review of elemental sulphur from Canada. This review covers the period December 1, 1997 through November 30, 1998.

EFFECTIVE DATE: February 1, 2000.

FOR FURTHER INFORMATION CONTACT: Rick Johnson at (202) 482-3818; Office of AD/CVD Enforcement, Group III, Office 9, Import Administration, International Trade Administration, U.S. Department of Commerce, 14th Street and Constitution Avenue, NW, Washington, D.C. 20230.

The Applicable Statute

Unless otherwise indicated, all citations to the statute are references to the provisions effective January 1, 1995, the effective date of the amendments made to the Tariff Act of 1930 (the Act) by the Uruguay Round Agreements Act (URAA).

Postponement of Final Results

The Department has determined that it is not practicable to issue its final results of the administrative review within the current time limit of January 21, 2000. See Decision Memorandum from Joseph A. Spetrini, Deputy Assistant Secretary, Enforcement Group III to Robert LaRussa, Assistant Secretary for Import Administration. Therefore, the Department is extending the time limit for completion of the final results until February 29, 2000, in accordance with Section 751(a)(3)(A) of the Act.

Dated: January 21, 2000.
Joseph A. Spetrini,
Deputy Assistant Secretary for Enforcement Group III.

[FR Doc. 00-2124 Filed 1-31-00; 8:45 am]

BILLING CODE 3510-DS-P